DEPARTMENT OF ENERGY

Bonneville Power Administration

Northeast Oregon Hatchery—Grande Ronde and Imnaha Spring Chinook Project

AGENCY: Bonneville Power Administration (BPA), Department of Energy (DOE).

ACTION: Notice of intent to prepare an environmental impact statement (EIS) and notice of floodplain and wetlands involvement.

SUMMARY: This notice announces BPA's intention to prepare an EIS on the development of additional supplementation facilities and modifications to existing facilities to support the mitigation of impacts to natural populations of spring chinook salmon in the Grande Ronde and Imnaha River basins. The U.S. Fish and Wildlife Service (USFWS), Department of Interior; and the U.S. Forest Service (USFS), Department of Agriculture, are cooperating agencies. The EIS will describe the proposed alternatives for fish trapping, rearing, and release facilities to help restore spring chinook salmon populations in the Imnaha River and Lostine River (a tributary in the Grande Ronde River basin) of Northeast Oregon. The planned facilities will modify and supplement existing facilities built for the Lower Snake River Compensation Plan (LSRCP), a program authorized by Congress in 1976 and administered by USFWS to compensate for spring, summer, and fall chinook salmon and steelhead losses caused by the construction and operation of four Federal dams on the lower Snake River. This action may involve floodplain and wetlands located in Wallowa and Union Counties, Oregon. In accordance with DOE regulations for compliance with floodplain and wetlands environmental review requirements, BPA will prepare a floodplain and wetlands assessment and would perform this proposed action so as to avoid or minimize potential harm to or within the affected floodplain and wetlands. The assessment and a floodplain statement of findings will be included in the EIS being prepared for the proposed project in accordance with the National Environmental Policy Act (NEPA).

DATES: Written comments on the scope of the Draft EIS are due to the address below no later than January 31, 2002. Comments may also be made at EIS scoping meetings to be held at the locations below on January 15, 16, and 17, 2002.

ADDRESSES: Send comment letters and requests to be placed on the project mailing list to Communications, Bonneville Power Administration—KC-7, P.O. Box 12999, Portland, Oregon, 97212. The phone number of the Communications office is 503-230-3478 in Portland; toll-free 1-800-622-4519 outside of Portland. Comments may also be sent to the BPA Internet address: comment@bpa.gov, or faxed to: 503-230-3285.

EIS scoping meetings will be held at the Imnaha Christian Fellowship, 78782 Imnaha Highway, Imnaha, Oregon, at 7 p.m. on January 15, 2002; at the South Fork Grange, 131 Highway 82, Lostine, Oregon, at 7 p.m. on January 16, 2002; and at Eastern Oregon University, Hoke Hall, 1 University Boulevard (intersection of 7th Street and I Avenue), LaGrande, Oregon, at 7 p.m. on January 17, 2002.

FOR FURTHER INFORMATION CONTACT: Patricia Smith, Environmental Project Lead—KEC-4, Bonneville Power Administration, P.O. Box 3621, Portland, Oregon, 97208-3621, phone number 503-230-7349, fax number 503-230-5699, e-mail prsmith@bpa.gov; or Jay Marcotte, Project Manager—KEWL-4, Bonneville Power Administration, P.O. Box 3621, Portland, Oregon, 97208-3621, phone number 503-230-3943, fax number 503-230-3943, e-mail jgmarcotte@bpa.gov.

SUPPLEMENTARY INFORMATION:

Background

Lookingglass Fish Hatchery was originally designed and constructed under the LSRCP program to produce two stocks of fish, the Imnaha stock for the Imnaha subbasin and a second stock for the Grande Ronde subbasin. Production of spring chinook salmon under this program began in the early 1980s. Beginning in the early 1990s, the fishery managers recognized that many natural populations in Northeast Oregon were at imminent risk of extirpation and immediate action was necessary. All natural spring chinook salmon populations in the Snake River, including the Imnaha and Grande Ronde Rivers, were listed by the National Marine Fisheries Service (NMFS) as threatened under the Endangered Species Act (ESA) in May 1992. In response to the listings, the States, Tribes, and USFWS developed plans to conserve Imnaha and Grande Ronde spring chinook salmon using captive broodstock and hatchery supplementation as the preferred artificial propagation approaches. These programs were designed to shift the emphasis of the LSRCP program from compensation to conservation and restoration. Plans in the mid-1990s to conserve four stocks under ESA permits issued by NMFS were implemented. Because the new programs did not increase numbers of fish to be produced at Lookingglass Fish Hatchery, an assumption was made that the existing facility, with minor modifications, would be sufficient to meet the needs.

Proposed Action

Recently, fishery managers determined that it is not possible to meet the entire program's needs at Lookingglass Fish Hatchery and that, without additional facilities, production must be cut from the conservation components of the program. Therefore, this project proposes to modify the existing Lookingglass Fish Hatchery and Imnaha satellite facility and build new facilities on the Lostine and Imnaha Rivers. A new incubation, rearing, and trapping facility is proposed for the Lostine River, a Grande Ronde basin tributary, and a new rearing facility is proposed for the Imnaha River. In addition, modifications are proposed to the Lookingglass Fish Hatchery on the Grande Ronde River and the Imnaha satellite facility on the Imnaha River. This project does not involve program issues or increases in the number of fish to be produced, but rather new and upgraded facilities that support an existing approved program and level of fish production. Potential exists for spanning or locating structures in the surrounding floodplains and activities may involve wetlands on those sites.

Process to Date

Based on similar site-specific projects, an initial decision was made to initiate an Environmental Assessment (EA). An EA Determination was signed on November 20, 2000, with the expectation that a Finding of No Significant Impact would be attained. However, the Imnaha portion of this project is located within the boundaries of the Hells Canyon National Recreation Area and the Imnaha Wild and Scenic River. Modifications to the existing Imnaha satellite facility and any new Imnaha facilities may involve construction in the Imnaha River that could create significant impacts. Therefore, it has been determined that the appropriate level of environmental coverage is an EIS.

This is a multi-party project involving Tribal governments, State agencies, and Federal agencies. The parties include the Nez Perce Tribe (NPT), the Confederated Tribes of the Umatilla Indian Reservation (CTUIR), Oregon Department of Fish and Wildlife (ODFW), USFS, USFWS, NMFS, and BPA. Scoping began during the EA process and will continue for at least 30 days after the filing of this notice of intent to prepare an EIS, gathering information on the extent of the action, range of alternatives, and the types of effects to be evaluated. NEPA and other environmental laws and regulatory requirements will be merged into an overall integrated process that ensures compliance with all Federal and State legal prerequisites. A review process in accordance with the specific requirements of each agency's NEPA regulations and manuals will allow for an integrated effort that provides a full disclosure.

Alternatives Proposed for Consideration

A reasonable range of alternatives for this project would include a proposed action that examines a combination of facility sites, new and existing with upgrades, that would reasonably accommodate the LSRCP biological criteria and program objectives. Connected, similar, and cumulative actions will be considered, along with a reasonable range of alternatives that could fulfill the purpose and need of the proposed action, including a no-action alternative. Mitigation measures will be considered, separate from features of the proposed action, that could avoid or substantially reduce the environmental consequences of the proposed action.

Public Participation and Identification of Environmental Issues

BPA has reinitiated scoping for this project, establishing a scoping period during which affected landowners, concerned citizens, special interest groups, local governments, and any other interested parties are invited to comment on the scope of the proposed EIS. Scoping will help BPA ensure that a full range of issues related to this proposal is addressed in the EIS, and also will identify significant or potentially significant impacts that may result from the proposed project. At these informal meetings, NPT, CTUIR, ODFW, USFS, USFWS, and BPA will provide detailed information about the proposed facilities and modifications to existing facilities. Written information will also be available, and BPA staff will answer questions and accept oral and written comments. When completed, the Draft EIS will be circulated for review and comment, and BPA will hold public comment meetings for the Draft EIS. BPA will consider and respond in the Final EIS to comments received on the Draft EIS.

The proposed action and alternatives will be examined for environmental effects on the affected environment. The types of impacts that will be considered include foreseeable direct and indirect effects as well as past, present, and reasonably foreseeable future cumulative effects. Issues raised during the scoping process will be examined and addressed in the Draft EIS.

Maps and further information are available from BPA at the address above.

Issued in Portland, Oregon, on November 14, 2001.
Stephen J. Wright,
Acting Administrator and Chief Executive Officer.

[FR Doc. 01-29247 Filed 11-21-01; 8:45 am]

BILLING CODE 6450-01-U